DEPARTMENT OF COMMERCE

National Oceanic and Atmospheric Administration

50 CFR Part 600

[I.D. 012802C]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Regional Administrator proposes to issue EFPs that would allow up to four federally permitted vessels in the limited access multispecies fishery to conduct fishing operations otherwise restricted by the regulations governing the fisheries of the Northeastern United States. The Administrator, Northeast Region, NMFS (Regional Administrator) has made a preliminary determination that the subject exempted fishing permit (EFP) application contains all the required information and warrants further consideration. The Regional Administrator has also made a preliminary determination that the activities authorized under the EFP would be consistent with the goals and objectives of the Northeast Multispecies Fishery Management Plan (FMP). However, further review and consultation may be necessary before a final determination is made to issue EFPs. The vessels would collect catch data to support the development of trawl mesh selectivity curves for the Southern New England (SNE) yellowtail flounder fishery. Regulations under the Magnuson-Stevens Fishery Conservation and Management Act require publication of this notification to provide interested parties the opportunity to comment on applications for proposed EFPs.

DATES: Comments on this action must be received at the appropriate address or fax number (see ADDRESSES) on or before February 21, 2002.

ADDRESSES: Written comments should be sent to Patricia A. Kurkul, Regional Administrator, NMFS, Northeast Regional Office, 1 Blackburn Drive, Gloucester, MA 01930. Mark the outside of the envelope “Comments on Rhode Island EFP Proposal”. Comments may also be sent via facsimile (fax) to (978) 281-9135.

FOR FURTHER INFORMATION CONTACT: Regina L. Spallone, Fishery Policy Analyst, (978) 281-9221, e-mail regina.l.spallone@noaa.gov.

SUPPLEMENTARY INFORMATION: The State of Rhode Island Department of Environmental Management, Division of Fish and Wildlife (applicant) submitted an application for EFPs on December 20, 2001. The EFPs will facilitate the collection of additional catch data that will support the development of trawl mesh selectivity curves for the SNE yellowtail flounder fishery. The catch data will supplement the data collected under EFPs in 2001, which were determined to be inconclusive due to the temporal nature of SNE yellowtail abundance in the study area and the resulting small sample size. The applicant intends to provide the trawl mesh selectivity curves to fisheries managers as a tool for matching the minimum legal yellowtail flounder size with the size of yellowtail flounder retained by the appropriate mesh size.

In June 2001, NMFS granted a request for EFPs to the State of Rhode Island Department of Environmental Management (applicant). The applicant investigated the selectivity of 6.0-inch (15.2-cm) diamond, 6.5-inch (16.5-cm) square, 6.5-inch (16.5-cm) diamond, and 7.0-inch (17.8-cm) square mesh codends using alternate tow methods for yellowtail flounder in southern Rhode Island waters during the summer of 2001. The applicant’s intent was to investigate alternative measures that would achieve the mortality reductions for this stock of fish needed to achieve Sustainable Fisheries Act objectives to be met in the Northeast Multispecies Fishery Management Plan. The New England Fishery Management Council’s (Council) Plan Development Team (PDT) has indicated that, in order to rebuild this stock of yellowtail flounder, fishing mortality must be reduced 50 to 70 percent from its current level. To address these reductions, the PDT and the Council’s Groundfish Oversight Committee (Committee) have developed a wide range of management measures, including trip limits, increases in the minimum fish and/or mesh sizes, year-round and/or seasonal area closures, and day-at-sea (DAS) reductions. Of those measures being considered, the applicant has expressed specific concern over the potential implementation of area closures as such closures would likely have a severe impact on the SNE commercial fishing community. Therefore, the applicant is seeking additional information that may support minimum fish and/or mesh size measures as alternatives to closures.

Under the EFP approved last year, the applicant developed selectivity curves upon which to base the lengths for yellowtail flounder at 50-percent retention (L50's). In summary, they were:

Shape | Mesh size, inches (cm) | Retention size, inches (cm)
Diamond | 6.0 (15.2) | 14.7 (37.3)
| 6.5 (16.5) | 15.6 (39.6)
Square | 6.5 (16.5) | 13.0 (33.0)
| 7.0 (17.8) | 14.3 (36.3)

However, additional analyses of the mean number of yellowtail flounder retained that were in compliance with the minimum size requirements under 50 CFR part 648.83 (a), indicate no significant differences between each experimental codend. The applicant compared length frequency distributions of the catches retained in the codends, which indicated some similarities in the catch performance of the experimental codends. The applicant attributes the equivocal results of the 2001 study to low catch numbers (26) of yellowtail flounder per tow. The applicant further explains that the summer months (June-July) during which the 2001 study was conducted typically exhibit low catches of yellowtail flounder. While the study suggests potential fishery benefits by increasing mesh size for yellowtail, the small sample size led to inconclusive results upon which fishery managers could rely. The applicant would therefore like to repeat the mesh selectivity study during March and April 2002, when yellowtail flounder would be in the nearshore waters and adequate sample sizes could be obtained.

As in 2001, the applicant proposes to examine differences between the mesh selectivity of 6-inch (15.2cm) diamond and 6.5-inch (16.5-cm) square mesh to 6.5-inch (16.5-cm) diamond and 7-inch (17.8-cm) square mesh. To accomplish this, the applicant will use an alternate tow design for a comparison of mesh selectivity. Each net configuration will be tested with and without a 3-inch (7.6-cm) liner.

The applicant will charter up to four federally permitted vessels in the limited access multispecies fishery. Participating vessels will take 4-5 day trips (totaling 16-20 trips). The applicant will select participating vessels based on their owners’ or operators’ knowledge of the trawl fishery for yellowtail flounder, familiarity with local fishing methodology, familiarity with the survey area, and possession of trawl gear (except netting). The applicant will provide the proper mesh configuration.

All trips will be completed during daylight hours and must include at least two scientific personnel. A minimum of 12 comparisons per codend are required, for a total of 48 experimental comparisons. Five tows at a duration of 1.5 hours will be conducted during each sampling day, for a total of three experimental comparisons per day.

Vessels would be required to comply with all conditions of the EFP. The EFPs would allow participating vessels to be exempt from the multispecies minimum mesh size restrictions (§ 648.80 (b)(2)(i)) in order to permit the vessels to use a 3- inch (7.6-cm) mesh liner for the purposes of comparing catch. All other regulations specified under 50 CFR part 648 would apply. Vessels would be fishing under the multispecies DAS program, and thus would be authorized to retain and sell all groundfish and non-targeted species up to the regulatory amounts for each species that meet the minimum size requirements under 50 CFR part 648. The proceeds generated from the sale of the fish will help defray the cost associated with the experimental fishing. The experimental fishing will be conducted in areas open to commercial fishing within statistical areas 537 and 539 from the date of issuance of the EFPs through April 30, 2002.

Participating vessels would be required to fish in accordance with a sampling plan designed by the applicant, maintain logbooks documenting fishing activities, carry on-board observers trained in fish taxonomy, and allow biological information to be collected from the catches.

Authority: 16 U.S.C. 1801 et seq.

Dated: February 1, 2002.
Bruce C. Morehead,
Acting Director, Office of Sustainable Fisheries, National Marine Fisheries Service.

[FR Doc. 02-2879 Filed 2-5-02; 8:45 am]

BILLING CODE 3510-22-S